DEPARTMENT OF TRANSPORTATION

National Highway Traffic Safety Administration

[Docket No. NHTSA 2004-19347; Notice 2]

Bridgestone/Firestone North American Tire, LLC, Grant of Petition for Decision of Inconsequential Noncompliance

Bridgestone/Firestone North American Tire, LLC (Bridgestone/Firestone) has determined that certain tires it manufactured do not comply with S6.5 of Federal Motor Vehicle Safety Standard (FMVSS) No. 119, “New pneumatic tires for vehicles other than passenger cars.” Pursuant to 49 U.S.C. 30118(d) and 30120(h), Bridgestone/Firestone has petitioned for a determination that this noncompliance is inconsequential to motor vehicle safety and has filed an appropriate report pursuant to 49 CFR part 573, “Defect and Noncompliance Reports.” Notice of receipt of a petition was published, with a 30-day comment period, on October 26, 2004, in the Federal Register (69 FR 62513). NHTSA received one comment.

A total of approximately 1,083 sizes 2.75-10 and 80/90-10 Bridgestone HOOP tires are affected. S6.5 of FMVSS No. 119 requires that the maximum load rating and corresponding inflation pressure of the tires be marked on the tire in both English and metric units. The noncompliant tires do not have the metric markings. The actual stamping is “MAX. LOAD 355 LBS AT 36 PSI COLD.” The correct stamping should be “MAX. LOAD 160kg (353 LBS) AT 50 kPa (36 PSI) COLD.”

Bridgestone/Firestone believes that the noncompliance is inconsequential to motor vehicle safety and that no corrective action is warranted. Bridgestone/Firestone states that the actual performance of the tires will not be affected by the mismarking, and that the tires meet or exceed all performance requirements of FMVSS No. 119. Further, Bridgestone/Firestone states that the mismarking will have no impact on the operational performance or safety of vehicles on which the tires are mounted, and that the problem has been corrected.

The agency agrees that the noncompliance is inconsequential to safety. The correct English unit information required by FMVSS No. 119 is provided and therefore is likely to achieve the safety purposes of the requirement. All other informational markings are present, and the tires meet or exceed all of the performance requirements of FMVSS No. 119. Bridgestone/Firestone has corrected the problem. One comment was received. However, the comment does not address the effect of the noncompliance on motor vehicle safety, and therefore is not persuasive in its argument that the petition should not be granted.

In consideration of the foregoing, NHTSA has decided that the petitioner has met its burden of persuasion that the noncompliance described is inconsequential to motor vehicle safety. Accordingly, Bridgestone/Firestone's petition is granted and the petitioner is exempted from the obligation of providing notification of, and a remedy for, the noncompliance.

Authority: 49 U.S.C. 30118, 30120; delegations of authority at CFR 1.50 and 501.8.

Issued on: December 9, 2004.
Kenneth N. Weinstein,
Associate Administrator for Enforcement.

[FR Doc. 04-27454 Filed 12-14-04; 8:45 am]

BILLING CODE 4910-59-P